DEPARTMENT OF JUSTICE

Drug Enforcement Administration

[Docket No. 07-42]

Harriston Lee Bass, Jr., M.D.; Revocation of Registration

On June 18, 2007, the Deputy Assistant Administrator, Office of Diversion Control, Drug Enforcement Administration, issued an Order to Show Cause to Harriston Lee Bass, M.D. (Respondent), of Las Vegas, Nevada. The Show Cause Order proposed the revocation of Respondent's DEA Certificate of Registration, BB0816441, as a practitioner, and the denial of any pending applications to renew or modify his registration, on three separate grounds. Show Cause Order at 1.

First, the Show Cause Order alleged that on several dates, Respondent had committed acts inconsistent with the public interest by prescribing various controlled substances including Percocet, a schedule II narcotic, as well as schedule III narcotics containing hydrocodone, to an undercover officer, without a legitimate medical purpose and outside of the usual course of professional practice. Show Cause Order at 1-2 (citing 21 CFR 1306.04(a)). Relatedly, the Show Cause Order alleged that on June 1, 2006, the State of Nevada had executed a search warrant at Respondent's office and residence and seized 10,882 dosage units of controlled substances notwithstanding that his state medical license authorized only the prescribing and administration of, and not the dispensing of, controlled substances. Id. at 2.

Second, the Show Cause Order alleged that on June 16, 2006, the Nevada Board of Medical Examiners summarily suspended Respondent's state medical license based on, inter alia, his improper prescribing of controlled substances to nine patients who became addicted to the drugs, and that his prescribing “contribut[ed] to the deaths of six of these patients.” Id. The Show Cause Order thus alleged that because Respondent lacks authority to handle controlled substances in the State in which he holds his DEA registration, he was not entitled to maintain his registration.¹ Id.

¹ The Show Cause Order also alleged that on June 18, 2005, Respondent had materially falsified his application to renew his DEA registration by failing to disclose a prior disciplinary action by the Nevada Board of Medical Examiners. Show Cause Order at 2.

On July 17, 2007, Respondent requested a hearing on the allegations; the matter was assigned to Administrative Law Judge (ALJ) Mary Ellen Bittner. On August 3, 2007, the Government moved for summary disposition and to stay the proceeding pending the resolution of its motion.

The basis of the Government's motion was that the state board had suspended Respondent's state medical license and Respondent therefore lacked authority to handle controlled substances in Nevada, the State in which he holds his DEA registration. Motion at 1-2. As support for its motion, the Government attached a copy of the June 16, 2006 order of the Nevada Board which suspended Respondent's state license pending the resolution of disciplinary proceedings. Order of Summary Suspension at 1-3. Citing numerous agency decisions, the Government argued that because Respondent lacked authority under Nevada law to handle controlled substances, he was not entitled to maintain his DEA registration. Gov. Mot. at 1-2. Id. Respondent did not respond to the Government's motion.

The ALJ granted the Government's motion. Noting that there was no dispute as to whether Respondent was without authority to handle controlled substances in Nevada, the ALJ applied the settled rule that a practitioner is not entitled to hold a DEA registration if he lacks authority to handle controlled substances under state law. ALJ Dec. at 2. The ALJ thus recommended that Respondent's registration be revoked and forwarded the record to me for final agency action. Id. at 2-3.

Having considered the record as a whole, I adopt the ALJ's decision in its entirety.² I find that on June 16, 2006, the Nevada Board of Medical Examiners suspended Respondent's state medical license pending the outcome of disciplinary proceedings.³ Based on public information available at the Nevada's Board Web site, I further find that Respondent's state medical license remains suspended and that he is without authority under Nevada law to handle controlled substances.

² Because Respondent did not deny the allegation that Respondent's DEA registration does not expire until July 31, 2008, see Show Cause Order at 1, I deem the allegation admitted and find that Respondent has a current registration.

³ I further note that in its Order of Summary Suspension, the State Board found that “Respondent's prescribing practices cannot be ruled out as contributing factors in the deaths of 6 patients, 5 of whom died of overdoses.” In re Harriston L. Bass, Jr., M.D., Order of Summary Suspension, at 2. (Nev. Bd. of Med. Examiners, Case No. 06-9455-1).

Under the Controlled Substances Act (CSA), a practitioner must be currently authorized to handle controlled substances in “the jurisdiction in which he practices” in order to maintain a DEA registration. See 21 U.S.C. 802(21) (“[t]he term ‘practitioner' means a physician * * * licensed, registered, or otherwise permitted, by * * * the jurisdiction in which he practices * * * to distribute, dispense, [or] administer * * * a controlled substance in the course of professional practice”). See also id. § 823(f) (“The Attorney General shall register practitioners * * * if the applicant is authorized to dispense * * * controlled substances under the laws of the State in which he practices.”). As these provisions make plain, possessing authority to dispense a controlled substance under the laws of the State in which a physician practices medicine is an essential condition for holding a DEA registration.

Accordingly, DEA has repeatedly held that the CSA requires the revocation of a registration issued to a practitioner whose state license has been suspended or revoked. See Sheran Arden Yeates, 71 FR 39130, 39131 (2006); Dominick A. Ricci, 58 FR 51104, 51105 (1993); Bobby Watts, 53 FR 11919, 11920 (1988). See also 21 U.S.C. 824(a)(3) (authorizing the revocation of a registration “upon a finding that the registrant * * * has had his State license or registration suspended [or] revoked * * * and is no longer authorized by State law to engage in the * * * distribution [or] dispensing of controlled substances”). Because Respondent's Nevada medical license has been indefinitely suspended, he is not entitled to maintain his DEA registration.

Order

Pursuant to the authority vested in me by 21 U.S.C. 823(f) & 824(a), as well as 28 CFR 0.100(b)-0.104, I hereby order that DEA Certificate of Registration, BB0816441, issued to Harriston L. Bass, M.D., be, and it hereby is, revoked. I further order that any pending applications of Harriston L. Bass, M.D., for renewal or modification of his registration be, and they hereby are, denied. This order is effective immediately.⁴

⁴ My decision that this Order be made effective immediately is based on the state's Board finding that “Respondent's prescribing practices cannot be ruled out as contributing factors in the deaths of 6 patients, 5 of whom died of overdoses.” Order of Summary Suspension, at 2; see also 21 CFR 1316.67.

Dated: June 11, 2008.
Michele M. Leonhart,
Deputy Administrator.

[FR Doc. E8-13741 Filed 6-17-08; 8:45 am]

BILLING CODE 4410-09-P